DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. Each filing may be viewed on the Commission's website at http://www.ferc.gov using the eLibrary link. Enter the docket number, excluding the last three digits, in the docket number field to access the document. For assistance, please contact FERC Online Support at FERCOnlineSupport@ferc.gov or toll free at (866) 208-3676, or for TTY, contact (202) 502-8659.

¹ Emailed comment dated 8/28/24 from Advanced Energy United.

² Chairman Phillips received the materials in an email from Suedeen Kelly of Jenner & Block on July 29, 2024, at 11:21. Anand Viswanathan of Jenner & Block was cc'd. Richard Lehfeldt received the materials in an email from Anand Viswanathan on July 29, 2024, at12:22 p.m. Anand Viswanathan forwarded to him Suedeen Kelly's email to the Chairman with the materials.

Commissioner Chang received the materials in an email from Suedeen Kelly on July 29, 2024, at 11:32. Anand Viswanathan of was cc'd. Steven Wellner, Catherine Giljohann, and Kathleen Ratcliff received the materials in an email from Anand Viswanathan on July 29, 2024, at 12:11 p.m. Anand Viswanathan forwarded to them Suedeen Kelly's email to Cmr. Chang with the materials.

Commissioner Christie received the materials in an email from Suedeen Kelly on July 29, 2024, at 11:24. Anand Viswanathan was cc'd. Tegan Flynn and Samuel Backfield received the materials in an email from Anand Viswanathan on July 29, 2024, at 12:20 p.m. Anand forwarded to them Suedeen Kelly's email to Cmr. Christie with the materials.

Commissioner Rosner received the materials in an email from Suedeen Kelly on July 29, 2024, at 11:27. Anand Viswanathan was cc'd. Robert Fares, Suthima Malayaman, Arielle Schwartz received the materials in an email from Anand Viswanathan on July 29, 2024, at 12:18 p.m. Anand Viswanathan forwarded to them Suedeen Kelly's email to Cmr. Rosner with the materials.

Commissioner See received the materials in an email from Suedeen Kelly on July 29, 2024, at 11:28. Anand Viswanathan was cc'd. Danielle Bertoldi received the materials in an email from Anand Viswanathan on July 29, 2024, at 12:15 p.m. Anand Viswanathan forwarded to her Suedeen Kelly's email to Cmr. See with the materials.

³ Emailed comment dated 9/3/24 from Anna McGlashen.

Docket Nos. | File date | Presenter or requester
Prohibited:
1. ER24-2798-000 | 8-28-2024 | FERC Staff.¹
ER24-2797-000
ER24-2671-000
2. EL24-113-000 | 9-4-2024 | FERC Staff.²
EL24-118-000
EL24-124-000
EL24-126-000
3. P-3409-032 | 9-9-2024 | FERC Staff.³
Exempt:
None

Dated: September 10, 2024.
Debbie-Anne A. Reese,
Acting Secretary.

[FR Doc. 2024-21028 Filed 9-16-24; 8:45 am]

BILLING CODE 6717-01-P